DEPARTMENT OF ENERGY

Federal Energy Regulatory Commission

Combined Notice of Filings # 2

July 19, 2005.

Take notice that the Commission received the following electric rate filings.

Docket Numbers: ER02-1336-003; ER02-1173-003; ER96-149-010.

Applicants: Vandolah Power Company, LLC; Front Range Power Company, LLC; Dartmouth Power Associates Limited Partnership.

Description: Vandolah Power Company, LLC, Front Range Power Company, LLC, Dartmouth Power Associates Limited Partnership submitted a joint request for triennial renewal of market-based rate authority, compliance filings under Order 652 and limited request for confidentiality.

Filed Date: 7/14/2005.

Accession Number: 20050715-0177.

Comment Date: 5 p.m. eastern time on Thursday, August 4, 2005.

Docket Numbers: ER02-1486-003; ER01-2756-004; ER00-2887-004.

Applicants: Cogen Technologies NJ Venture; Camden Cogen, L.P.; Newark Bay Cogeneration Partnership, L.P.

Description: Bayonne Plant Holding, LLC, as successor in the interest to Cogen Technologies NJ Venture, Camden Plant Holding, L.L.C., as successor in interest to Camden Cogen, L.P. and Newark Bay Cogeneration Partnership, L.P. submit their triennial updated market analysis and revised tariff sheets pursuant to the reporting requirements of Order 652.

Filed Date: 7/15/2005.

Accession Number: 20050718-0233.

Comment Date: 5 p.m. eastern time on Friday, August 5, 2005.

Docket Numbers: ER04-1252-002.

Applicants: Midwest Independent Transmission System Operator, Inc. and Ameren Service Company.

Description: Midwest Independent Transmission System Operator, Inc. and Ameren Service Company submit proposed revisions to the Midwest ISO's Open Access Transmission & Energy Markets Tariff, FERC Electric Tariff, Third Revised Volume No. 1, in compliance with the Commission's order issued 6/24/05, 111 FERC 61,464 (2005).

Filed Date: 7/15/2005.

Accession Number: 20050715-0176.

Comment Date: 5 p.m. eastern time on Friday, August 5, 2005.

Docket Numbers: ER05-1215-000.

Applicants: Wholesale Electric Trading GP, LLC.

Description: Wholesale Electric Trading GP, LLC's petition for acceptance of Rate Schedule FERC No. 1, the granting of certain blanket approvals, including the authority to sell electricity at market-based rates and the waiver of certain Commission regulations.

Filed Date: 7/15/2005.

Accession Number: 20050718-0116.

Comment Date: 5 p.m. eastern time on Friday, August 5, 2005.

Docket Numbers: ER05-1217-000.

Applicants: Black Hills Power, Inc.; Powder River Energy Corporation

Description: Black Hills Power Inc. and Powder River Energy Corporation submit a revised Attachment H—monthly network transmission revenue requirements for transmission service on the transmission system to the joint open access transmission tariff of Black Hills Power, Basin Electric Power Cooperative and PRECorp.

Filed Date: 7/15/2005.

Accession Number: 20050718-0229.

Comment Date: 5 p.m. eastern time on Friday, August 5, 2005.

Docket Numbers: ER05-1218-000.

Applicants: Bayonne Plant Holding, L.L.C.

Description: Bayonne Plant Holding, L.L.C. submits a notice of succession reflecting the adoption of the market-based rate tariff filed by Cogen Technologies NJ Venture and accepted for filing by letter order issued on 5/24/02 in Docket No. ER02-1486-000.

Filed Date: 7/15/2005.

Accession Number: 20050718-0230.

Comment Date: 5 p.m. eastern time on Friday, August 5, 2005.

Docket Numbers: ER05-1219-000.

Applicants: Camden Plant Holding, L.L.C.

Description: Camden Plant Holdling, LLC submits a notice of succession reflecting the adoption of the market-base rate tariff filed with FERC by Camden Cogen, L.P. and accepted for filing by letter order issued on 9/13/01 in Docket No. ER01-2756-000.

Filed Date: 7/15/2005.

Accession Number: 20050718-0231.

Comment Date: 5 p.m. eastern time on Friday, August 5, 2005.

Docket Numbers: ER05-1220-000.

Applicants: ISO New England and New England Power Pool.

Description: ISO New England Inc and the New England Power Pool Participants Committee submit proposed revisions to Appendix F to Market Rule 1 that clarify the inclusion of Start Up Feed in the calculation of Operating Reserve Credits in Real Time and Day-Ahead Energy Markets.

Filed Date: 7/15/2005.

Accession Number: 20050718-0232.

Comment Date: 5 p.m. eastern time on Friday, August 5, 2005.

Docket Numbers: ER05-798-002.

Applicants: Virtual Energy, Inc.

Description: Virtual Energy Inc. submits an amended Rate Schedule FERC No. 1 in compliance with the Commission's letter order issued 6/17/05 in Docket Nos. ER05-798-000 and 001.

Filed Date: 7/15/2005.

Accession Number: 20050718-0235.

Comment Date: 5 p.m. eastern time on Friday, August 5, 2005.

Docket Numbers: ER05-919-001.

Applicants: Mirant Americas Energy Marketing, L.P. and PJM Interconnection, L.L.C.

Description: Response of Mirant Americas Energy Marketing, LP and PJM Interconnection, LLC to the Commission's 7/15/05 deficiency letter regarding their 4/29/05 filing in Docket No. ER05-919-000.

Filed Date: 7/15/2005.

Accession Number: 20050718-0236.

Comment Date: 5 p.m. eastern time on Friday, August 5, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlinSupport@ferc.gov. or call (866) 208-3676 (toll free). For TTY, call (202) 502-8659.

Linda Mitry,
Deputy Secretary.

[FR Doc. E5-3937 Filed 7-22-05; 8:45 am]

BILLING CODE 6717-01-P